INTERNATIONAL TRADE COMMISSION

[Investigation No. 337-TA-1218]

Notice of a Commission Determination Not To Review an Initial Determination Granting Leave To Amend the Complaint and Notice of Investigation; Certain Variable Speed Wind Turbine Generators and Components Thereof

AGENCY: International Trade Commission.

ACTION: Notice.

SUMMARY: Notice is hereby given that the International Trade Commission (“Commission”) has determined not to review an initial determination (“ID”) (Order No. 10) of the presiding administrative law judge (“ALJ”), granting leave to amend the complaint and notice of investigation.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on September 8, 2020. 85 FR 55492-93 (Sep. 8, 2020). The complaint, as supplemented, was filed by General Electric Company (“GE”) and alleges violations of section 337 of the Tariff Act of 1930, as amended, 19 U.S.C. 1337, in the importation into the United States, the sale for importation, or the sale within the United States after importation of certain variable speed wind turbine generators and components thereof by reason of infringement of certain claims of United States Patent Nos. 6,921,985 (“the '985 patent”) and 7,629,705 (“the '705 patent”). Id. at 55492. The complaint further alleges that a domestic industry exists. Id. The Commission's notice of investigation named Siemens Gamesa Renewable Energy Inc. of Orlando, Florida; Siemens Gamesa Renewable Energy A/S of Brande, Denmark; and Gamesa Electric, S.A.U. of Zamudio, Spain (collectively “SGRE”). Id. at 55493. The Office of Unfair Import Investigations is not participating in this investigation. Id.

On November 13, 2020, GE moved for leave to amend the complaint and notice of investigation to add independent claim 15 and dependent claims 16 and 21-24 to the asserted claims of the '985 patent and dependent claim 2 for the '705 patent. On November 25, 2020, SGRE filed a brief opposing the motion.

On December 2, 2020, the presiding administrative law judge (“ALJ”) issued the subject ID granting the motion and allowing GE leave to amend the complaint and notice of investigation to add the requested claims. The ALJ reached that conclusion by finding that the record supported the conclusion that GE did not obtain information supporting allegations of infringement as to the additional claims until after it filed the complaint in this investigation. The ALJ also found that granting the motion would not prejudice the parties' rights in the investigation because the additional claims would not expand the scope of accused products at issue in the investigation, and adequate time remains in fact discovery, scheduled to close on March 5, 2021. No petitions for review of the ID were received.

The Commission vote for this determination took place on December 18, 2020. The following claims have been added to the investigation: claims 15-16 and 21-24 of the '985 patent and claim 2 of the '705 patent.

The authority for the Commission's determination is contained in section 337 of the Tariff Act of 1930, as amended (19 U.S.C. 1337), and in Part 210 of the Commission's Rules of Practice and Procedure (19 CFR part 210).

By order of the Commission.
Issued: December 21, 2020.
Lisa Barton,
Secretary to the Commission.

[FR Doc. 2020-28673 Filed 12-28-20; 8:45 am]

BILLING CODE 7020-02-P